DEPARTMENT OF HOMELAND SECURITY

Federal Emergency Management Agency

[Docket ID FEMA-2014-0002]

Final Flood Hazard Determinations

AGENCY: Federal Emergency Management Agency, DHS.

ACTION: Final Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of September 26, 2014 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and ninety (90) days have elapsed since that publication. The Deputy Associate Administrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

Community | Community map repository address
San Bernardino, California, and Incorporated Areas
Docket No.: FEMA-B-1309
City of Fontana | City Hall, Engineering Department, 8353 Sierra Avenue, Fontana, CA 92335.
City of Ontario | City Hall, Engineering Department Public Counter, 303 East B Street, Ontario, CA 91764.
City of Rancho Cucamonga | City Hall, Engineering Department Plaza Level, 10500 Civic Center Drive, Rancho Cucamonga, CA 91730.
Unincorporated Areas of San Bernardino County | Public Works Department, Water Resources Department, 825 East 3rd Street, San Bernardino, CA 92415.
Ventura County, California, and Incorporated Areas
Docket No.: FEMA-B-1330
City of Ojai | City Hall, 401 South Ventura Street, Ojai, CA 93024.
Unincorporated Areas of Ventura County | Ventura County Hall of Administration, 800 South Victoria Avenue, Ventura, CA 93009.
Citrus County, Florida, and Incorporated Areas
Docket No.: FEMA-B-1347
City of Crystal River | City Hall, 123 North West U.S. Highway 19, Crystal River, FL 34428.
City of Inverness | City Hall, 212 West Main Street, Inverness, FL 34450.
Unincorporated Areas of Citrus County | Lecanto Government Complex, 3600 West Sovereign Path, Lecanto, FL 34461.
Glades County, Florida, and Incorporated Areas
Docket No.: FEMA-B-1347
City of Moore Haven | 299 Riverside Drive, Moore Haven, FL 33471.
Unincorporated Areas of Glades County | 500 Avenue J, Moore Haven, FL 33471.
Pasco County, Florida, and Incorporated Areas
Docket No.: FEMA-B-1347
City of Dade City | City Hall, 14206 U.S. Highway 98 Bypass, Dade City, FL 33523.
City of New Port Richey | City Hall, 5919 Main Street, New Port Richey, FL 34652.
City of Port Richey | City Hall, 6333 Ridge Road, Port Richey, FL 34668.
City of San Antonio | City Hall, 32819 Pennsylvania Avenue, San Antonio, FL 33576.
City of Zephyrhills | City Hall, 5335 8th Street, Zephyrhills, FL 33542.
Town of St. Leo | Town Hall, 34544 State Road 52, Saint Leo, FL 33574.
Unincorporated Areas of Pasco County | New Port Richey Government Center, 7530 Little Road, New Port Richey, FL 34654.
Wakulla County, Florida, and Incorporated Areas
Docket No.: FEMA-B-1267
City of Sopchoppy | City Hall, 105 Municipal Avenue, Sopchoppy, FL 32358.
City of St. Marks | City Hall, 788 Port Leon Drive, Saint Marks, FL 32355.
Unincorporated Areas of Wakulla County | Wakulla County Planning and Zoning Department, 3095 Crawfordville Highway, Crawfordville, FL 32327.
Greenup County, Kentucky, and Incorporated Areas
Docket No.: FEMA-B-1347
City of Bellefonte | Bellefonte City Hall, 705 Bellefonte Princess Road, Ashland, KY 41101.
City of Greenup | City Hall, 1005 Walnut Street, Greenup, KY 41144.
City of Raceland | City Hall, 711 Chinn Street, Raceland, KY 41169.
City of Russell | City Hall, 410 Ferry Street, Russell, KY 41169.
City of South Shore | City Hall, 69 Narco Drive, South Shore, KY 41175.
City of Worthington | City Hall, 512 Ferry Street, Worthington, KY 41183.
City of Wurtland | City Hall, 500 Wurtland Avenue, Wurtland, KY 41144.
Unincorporated Areas of Greenup County | Greenup County Courthouse, 301 Main Street, Room 102, Greenup, KY 41144.
Allegheny County, Pennsylvania (All Jurisdictions)
Docket No.: FEMA-B-1299
Borough of Aspinwall | Borough Office, 217 Commercial Avenue, Aspinwall, PA 15215.
Borough of Avalon | Borough Hall, 640 California Avenue, Avalon, PA 15202.
Borough of Baldwin | Baldwin Borough Municipal Building, 3344 Churchview Avenue, Pittsburgh, PA 15227.
Borough of Bell Acres | Bell Acres Borough Building, 1153 Camp Meeting Road, Sewickley, PA 15143.
Borough of Bellevue | Borough Hall, 537 Bayne Avenue, Bellevue, PA 15202.
Borough of Ben Avon | Ben Avon Borough Building, 7101 Church Avenue, Pittsburgh, PA 15202.
Borough of Blawnox | Blawnox Borough Office, 376 Freeport Road, Pittsburgh, PA 15238.
Borough of Brackenridge | Borough Office, 1000 Brackenridge Avenue, Brackenridge, PA 15014.
Borough of Braddock | Borough Municipal Building, 415 6th Street, Braddock, PA 15104.
Borough of Braddock Hills | Braddock Hills Borough Building, 1300 Brinton Road, Pittsburgh, PA 15221.
Borough of Bradford Woods | Borough Office, 4908 Wexford Run Road, Bradford Woods, PA 15015.
Borough of Brentwood | Brentwood Borough Municipal Building, 3624 Brownsville Road, Pittsburgh, PA 15227.
Borough of Bridgeville | Borough Municipal Building, 425 Bower Hill Road, Bridgeville, PA 15017.
Borough of Carnegie | Borough Building, 1 Veterans Way, Carnegie, PA 15106.
Borough of Castle Shannon | Castle Shannon Borough Building, 3310 McRoberts Road, Pittsburgh, PA 15234.
Borough of Cheswick | Borough Office, 220 South Atlantic Avenue, Cheswick, PA 15024.
Borough of Churchill | Churchill Borough Municipal Building, 2300 William Penn Highway, Pittsburgh, PA 15235.
Borough of Coraopolis | Borough Hall, 1012 5th Avenue, Coraopolis, PA 15108.
Borough of Crafton | Crafton Borough Hall, 100 Stotz Avenue, Pittsburgh, PA 15205.
Borough of Dravosburg | Borough Building, 226 Maple Avenue, Dravosburg, PA 15034.
Borough of East Pittsburgh | Borough Office, 813 Linden Avenue, East Pittsburgh, PA 15112.
Borough of Edgeworth | Borough Building, 301 Beaver Road, Edgeworth, PA 15143.
Borough of Elizabeth | Borough Hall, 206 3rd Avenue, Elizabeth, PA 15037.
Borough of Emsworth | Emsworth Borough Office, 171 Center Avenue, Pittsburgh, PA 15202.
Borough of Etna | Etna Borough Office, 437 Butler Street, Pittsburgh, PA 15223.
Borough of Forest Hills | Forest Hills Borough Building, 2071 Ardmore Boulevard, Pittsburgh, PA 15221.
Borough of Fox Chapel | Fox Chapel Borough Building, 401 Fox Chapel Road, Pittsburgh, PA 15238.
Borough of Franklin Park | Franklin Park Zoning Office, 2344 West Ingomar Road, Pittsburgh, PA 15237.
Borough of Glassport | Borough Secretary's Office, 440 Monongahela Avenue, Glassport, PA 15045.
Borough of Glen Osborne | Borough of Glen Osborne, Sewickley Borough Building, 601 Thorn Street, Sewickley, PA 15143.
Borough of Glenfield | Glenfield Borough Secretary's Office, 299 Dawson Avenue, Sewickley, PA 15143.
Borough of Green Tree | Green Tree Borough Building, 10 West Manilla Avenue, Pittsburgh, PA 15220.
Borough of Haysville | Haysville Borough Secretary's Office, 18 River Road, Sewickley, PA 15143.
Borough of Heidelberg | Borough Building, 1631 East Railroad Street, Heidelberg, PA 15106.
Borough of Homestead | Borough Office, 221 East 7th Avenue, Homestead, PA 15120.
Borough of Jefferson Hills | Borough Municipal Center, 925 Old Clairton Road, Jefferson Hills, PA 15025.
Borough of Leetsdale | Borough Building, 373 Beaver Street, Suite A, Leetsdale, PA 15056.
Borough of Liberty | Liberty Borough Municipal Building, 2921 Liberty Way, McKeesport, PA 15133.
Borough of Lincoln | Lincoln Borough Municipal Building, 45 Abe's Way, Elizabeth, PA 15037.
Borough of McDonald | Borough Building, 151 School Street, McDonald, PA 15057.
Borough of McKees Rocks | Borough Building, 340 Bell Avenue, McKees Rocks, PA 15136.
Borough of Millvale | Borough Hall, 501 Lincoln Avenue, Millvale, PA 15209.
Borough of Munhall | Borough Hall, 1900 West Street, Munhall, PA 15120.
Borough of North Braddock | Borough Hall, 600 Anderson Street, North Braddock, PA 15104.
Borough of Oakdale | Borough Building, 6115 Noblestown Road, Oakdale, PA 15071.
Borough of Oakmont | Borough Municipal Building, 767 5th Street, Oakmont, PA 15139.
Borough of Pitcairn | Borough Building, 582 6th Street, Pitcairn, PA 15140.
Borough of Pleasant Hills | Pleasant Hills Borough Office, 410 East Bruceton Road, Pittsburgh, PA 15236.
Borough of Plum | Plum Borough Planning and Zoning Office, 4575 New Texas Road, Pittsburgh, PA 15239.
Borough of Port Vue | Borough Hall, 1191 Romine Avenue, Port Vue, PA 15133.
Borough of Rankin | Borough Hall, 320 Hawkins Avenue, Rankin, PA 15104.
Borough of Rosslyn Farms | Borough of Rosslyn Farms, Gateway Engineers, 400 Holiday Drive, Suite 300, Pittsburgh, PA 15220.
Borough of Sewickley | Borough Building, 601 Thorn Street, Sewickley, PA 15143.
Borough of Sewickley Heights | Sewickley Heights Borough Hall, 238 Country Club Road, Sewickley, PA 15143.
Borough of Sewickley Hills | Sewickley Hills Borough Municipal Building, 349 Magee Road, Sewickley, PA 15143.
Borough of Sharpsburg | Sharpsburg Borough Office, 1611 Main Street, Pittsburgh, PA 15215.
Borough of Springdale | Borough Municipal Building, 325 School Street, Springdale, PA 15144.
Borough of Swissvale | Borough Hall, 7560 Roslyn Street, Swissvale, PA 15218.
Borough of Tarentum | Borough Municipal Building, 318 2nd Avenue, Tarentum, PA 15084.
Borough of Thornburg | Thornburg Borough Secretary's Office, 545 Hamilton Road, Pittsburgh, PA 15205.
Borough of Trafford | Borough Hall, 414 Brinton Avenue, Trafford, PA 15085.
Borough of Turtle Creek | Borough Building, 125 Monroeville Avenue, Turtle Creek, PA 15145.
Borough of Verona | Borough Municipal Building, 736 East Railroad Avenue, Verona, PA 15147.
Borough of Versailles | Versailles Borough Building, 5100 Walnut Street, McKeesport, PA 15132.
Borough of Wall | Borough Engineer's Office, 413 Wall Avenue, Wall, PA 15148.
Borough of West Elizabeth | Borough Building, 800 4th Street, West Elizabeth, PA 15088.
Borough of West Homestead | Borough Building, 456 West 8th Avenue, West Homestead, PA 15120.
Borough of West Mifflin | Borough Building, 3000 Lebanon Church Road, West Mifflin, PA 15122.
Borough of West View | West View Borough Building, 441 Perry Highway, Pittsburgh, PA 15229.
Borough of Whitaker | Whitaker Borough Secretary's Office, 1001 Ardmore Boulevard, Suite 100, Pittsburgh, PA 15221.
Borough of White Oak | Borough Municipal Building, 2280 Lincoln Way, White Oak, PA 15131.
Borough of Whitehall | Whitehall Borough Complex, 100 Borough Park Drive, Pittsburgh, PA 15236.
Borough of Wilmerding | Borough Building, 301 Station Street, Wilmerding, PA 15148.
City of Clairton | City Engineer's Office, 551 Ravensburg Boulevard, Clairton, PA 15025.
City of Duquesne | City Building Inspector's Office, 12 South 2nd Street, Duquesne, PA 15110.
City of McKeesport | City Hall, 500 5th Avenue, McKeesport, PA 15132.
City of Pittsburgh | Department of City Planning, 200 Ross Street, 4th Floor, Pittsburgh, PA 15219.
Municipality of Bethel Park | Municipal Building, 5100 West Library Avenue, Bethel Park, PA 15102.
Municipality of Monroeville | Municipal Engineering Office, 2700 Monroeville Boulevard, Monroeville, PA 15146.
Municipality of Mt. Lebanon | Mt. Lebanon Municipal Building, 710 Washington Road, Pittsburgh, PA 15228.
Municipality of Penn Hills | Municipal Planning Department, 12245 Frankstown Road, Penn Hills, PA 15235.
Town of McCandless | McCandless Town Hall, 9955 Grubbs Road, Wexford, PA 15090.
Township of Aleppo | Aleppo Township Building, 100 North Drive, Sewickley, PA 15143.
Township of Baldwin | Baldwin Township Municipal Building, 10 Community Park Drive, Pittsburgh, PA 15234.
Township of Collier | Collier Township Zoning Office, 2418 Hilltop Road, Suite 100, Presto, PA 15142.
Township of Crescent | Township Municipal Building, 225 Spring Run Road, Crescent, PA 15046.
Township of East Deer | East Deer Township Municipal Building, 927 Freeport Road, Creighton, PA 15030.
Township of Elizabeth | Township Municipal Building, 522 Rock Run Road, Elizabeth, PA 15037.
Township of Fawn | Fawn Township Office, 3054 Howes Run Road, Tarentum, PA 15084.
Township of Findlay | Findlay Township Building, 1271 Route 30, Clinton, PA 15026.
Township of Forward | Forward Township Municipal Building, 1000 Golden Circle, Elizabeth, PA 15037.
Township of Frazer | Frazer Township Hall, 592 Pittsburgh Mills Circle, Tarentum, PA 15084.
Township of Hampton | Hampton Township Municipal Building, 3101 McCully Road, Allison Park, PA 15101.
Township of Harmar | Harmar Township Municipal Building, 701 Freeport Road, Cheswick, PA 15024.
Township of Harrison | Harrison Township Municipal Building, 1 Municipal Drive, Natrona Heights, PA 15065.
Township of Indiana | Indiana Township Hall, 3710 Saxonburg Boulevard, Pittsburgh, PA 15238.
Township of Kennedy | Kennedy Township Municipal Building, 340 Forest Grove Road, Coraopolis, PA 15108.
Township of Kilbuck | Kilbuck Township Hall, 640 California Avenue, Pittsburgh, PA 15202.
Township of Leet | Leet Township Building, 198 Ambridge Avenue, Fair Oaks, PA 15003.
Township of Marshall | Marshall Township Municipal Building, 525 Pleasant Hill Road, Suite 100, Wexford, PA 15090.
Township of Moon | Township Office, 1000 Beaver Grade Road, Moon Township, PA 15108.
Township of Neville | Neville Township Municipal Building, 5050 Grand Avenue, Pittsburgh, PA 15225.
Township of North Fayette | North Fayette Township Building, 400 North Branch Road, Oakdale, PA 15071.
Township of North Versailles | Township Administrative Office, 1401 Greensburg Avenue, North Versailles, PA 15137.
Township of O'Hara | O'Hara Township Office, 325 Fox Chapel Road, Pittsburgh, PA 15238.
Township of Ohio | Ohio Township Building, 1719 Roosevelt Road, Pittsburgh, PA 15237.
Township of Pine | Pine Township Municipal Building, 230 Pearce Mill Road, Wexford, PA 15090.
Township of Reserve | Reserve Township Hall, 33 Lonsdale Street, Pittsburgh, PA 15212.
Township of Richland | Richland Township Building, 4019 Dickey Road, Gibsonia, PA 15044.
Township of Robinson | Robinson Township Building, 1000 Church Hill Road, Pittsburgh, PA 15205.
Township of Ross | Ross Township Hall, 1000 Ross Municipal Drive, Pittsburgh, PA 15237.
Township of Scott | Scott Township Office, 301 Lindsay Road, Carnegie, PA 15106.
Township of Shaler | Shaler Township Hall, 300 Wetzel Road, Glenshaw, PA 15116.
Township of South Fayette | South Fayette Township Municipal Building, 515 Millers Run Road, Morgan, PA 15064.
Township of South Park | Township Code Enforcement Office, 2675 Brownsville Road, South Park, PA 15129.
Township of South Versailles | Township of South Versailles, Coulter Volunteer Fire Company, 414 Railroad Street, Coulter, PA 15028.
Township of Springdale | Springdale Township Hall, 100 Plate Drive, Harwick, PA 15049.
Township of Stowe | Stowe Township Building, 555 Broadway Avenue, McKees Rocks, PA 15136.
Township of Upper St. Clair | Township Municipal Building, 1820 McLaughlin Run Road, Upper St. Clair, PA 15241.
Township of West Deer | West Deer Township Building, 109 East Union Road, Cheswick, PA 15024.
Township of Wilkins | Wilkins Township Building, 110 Peffer Road, Turtle Creek, PA 15145.
Refugio County, Texas, and Incorporated Areas
Docket No.: FEMA-B-1332
City of Austwell | City Hall, 108 South Gisler Street, Austwell, TX 77950.
City of Bayside | City Hall, 909 1st Street, Bayside, TX 78340.
Town of Refugio | Town Hall, 613 Commerce Street, Refugio, TX 78377.
Town of Woodsboro | Town Hall, 121 North Wood Avenue, Woodsboro, TX 78393.
Unincorporated Areas of Refugio County | Refugio County Courthouse, 808 Commerce Street, Refugio, TX 78377.

(Catalog of Federal Domestic Assistance No. 97.022, “Flood Insurance.”)

Dated: July 11, 2014.
Roy E. Wright,
Deputy Associate Administrator for Mitigation, Department of Homeland Security, Federal Emergency Management Agency.

[FR Doc. 2014-18252 Filed 7-31-14; 8:45 am]

BILLING CODE 9110-12-P